DEPARTMENT OF COMMERCE

International Trade Administration

[C-580-837]

Notice of Rescission of Countervailing Duty Administrative Review: Certain Cut-to-Length Carbon Quality Steel Plate From the Republic of Korea

AGENCY: Import Administration, International Trade Administration, Department of Commerce.

ACTION: Notice of rescission of countervailing duty administrative review.

SUMMARY: On March 25, 2003, the Department of Commerce (the Department) initiated an administrative review of the countervailing duty order on certain cut-to-length carbon quality steel plate (CTL Plate) from the Republic of Korea, covering the period January 1, 2002 through December 31, 2002. See Initiation of Antidumping and Countervailing Duty Administrative Reviews and Requests for Revocation in Part, 68 FR 14394 at 14400 (March 25, 2003). In accordance with 19 CFR 351.213(d)(1) (2002), the Department is now rescinding this review because the requester has withdrawn its request for an administrative review.

EFFECTIVE DATE: May 8, 2003.

FOR FURTHER INFORMATION CONTACT: Stephanie Moore or Joy Zhang, AD/CVD Enforcement, Office 6, Group II, Import Administration, International Trade Administration, U.S. Department of Commerce, 14th Street and Constitution Avenue, NW., Washington, DC 20230; telephone: (202) 482-3692 or (202) 482-1168, respectively.

SUPPLEMENTARY INFORMATION:

Background

On February 27, 2003, the Department received a letter from Nucor requesting an administrative review of the countervailing order on CTL Plate from Korea. On March 25, 2003, the Department initiated an administrative review of this order for the period January 1, 2002 through December 31, 2002. Nucor submitted a letter dated March 24, 2003, withdrawing its request for the above referenced administrative review.

Scope of the Review

For purposes of this administrative review, the products covered are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of this order are of rectangular, square, circular or other shape and of rectangular or non-rectangular cross-section where such non-rectangular cross-section is achieved subsequent to the rolling process (i.e., products which have been “worked after rolling”)—for example, products which have been beveled or rounded at the edges. Steel products that meet the noted physical characteristics that are painted, varnished or coated with plastic or other non-metallic substances are included within this scope. Also, specifically included in the scope of this order are high strength, low alloy (HSLA) steels. HSLA steels are recognized as steels with micro-alloying levels of elements such as chromium, copper, niobium, titanium, vanadium, and molybdenum. Steel products to be included in this scope, regardless of Harmonized Tariff Schedule of the United States (HTSUS) definitions, are products in which: (1) Iron predominates, by weight, over each of the other contained elements; (2) the carbon content is two percent or less, by weight; and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of this order unless otherwise specifically excluded. The following products are specifically excluded from this order: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

The merchandise subject to this order is classified in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and Customs purposes, the written description of the merchandise covered by these orders is dispositive.

Rescission of Review

Within 90 days of the March 25, 2003, publication of the notice of initiation, Nucor withdrew its request for an administrative review. See Letter from Nucor to the Department dated March 24, 2003, on file in the Central Records Unit, Room B-099, Main Building of the Department of Commerce. No other interested party requested a review, and we have received no submissions commenting on Nucor's withdrawal of its request for review.

In accordance with the Department's regulation, 19 CFR 351.213(d)(1), and consistent with its practice, the Department hereby rescinds the administrative review of CTL Plate from Korea for the period January 1, 2002 to December 31, 2002. See, e.g., Certain Welded Carbon Steel Pipe and Tube from Turkey: Rescission of Countervailing Duty Administrative Review, 67 FR 42541 (June 24, 2002).

This notice is in accordance with sections 751(a)(1) and 777(i) of the Tariff Act of 1930, as amended, and § 351.213(d)(4) of the Department's regulations.

Dated: May 1, 2003.
Holly A. Kuga,
Acting Deputy Assistant Secretary for Import Administration.

[FR Doc. 03-11485 Filed 5-7-03; 8:45 am]

BILLING CODE 3510-DS-P